DEPARTMENT OF AGRICULTURE

Agricultural Marketing Service

[Doc. No. AMS-LPS-15-0050]

United States Standards for Grades of Carcass Beef

AGENCY: Agricultural Marketing Service, USDA

ACTION: Notice.

SUMMARY: This document makes amendments to the United States Standards for Grades of Carcass Beef in order to make administrative changes and provide several points of clarification.

DATES: Effective: March 1, 2016.

FOR FURTHER INFORMATION CONTACT: The Standardization Branch, Quality Assessment Division, LPS Program, AMS, USDA, 1400 Independence Ave. SW., STOP 0258, Washington, DC 20250; Phone (202) 690-3148.

SUPPLEMENTARY INFORMATION: In order to update certain elements in United States Standards for Grades of Carcass Beef, this document makes administrative changes to reflect the practices and advances in commercial practices and the current beef carcass weights. These changes provide clarity on the way that the United States Standards for Grades of Carcass Beef may currently be applied with the use of camera technology; provide more up-to-date examples that reflect heavier carcass weights; and make administrative changes to reflect current organizational structures and titles.

Section 203(c) of the Agricultural Marketing Act of 1946, as amended, directs and authorizes the Secretary of Agriculture “to develop and improve standards of quality, condition, quantity, grade, and packaging and recommend and demonstrate such standards in order to encourage uniformity and consistency in commercial practices.” AMS is committed to carrying out this authority in a manner that facilitates the marketing of agricultural commodities and makes copies of official standards available upon request. The United States Standards for Grades of Carcass Beef do not appear in the Code of Federal Regulations but are maintained by USDA and are available on the internet at http://www.ams.usda.gov/grades-standards/beef. To change the United States Standards for Grades of Carcass Beef, AMS utilized the procedures it published in the August 13, 1997, Federal Register and that appear in part 36 of Title 7 of the Code of Federal Regulations (7 CFR part 36).

As additional background, AMS sought comments through a Notice [FR Doc. 2014-19309] published on November 13, 2014. AMS received 21 comments addressing a variety of topics. Eight of the comments strongly recommended that any revision should be based on sound science and an abundance of supporting data. Fourteen focused on either the yield grade or quality grade. Eight addressed cattle production issues while two suggested incorporating tenderness measures. Twelve comments supported, one did not, revising/updating the yield grade portion of the standard. One of the factors used in determining yield grade, ribeye area, had eight comments supporting a closer examination of this factor while one did not. Three recommended that a meat yield be used in lieu of yield grade. Twelve comments supported revising beef maturity, one of the factors used in determining quality grade, while one did not. Seven comments were received regarding instrument grading. Five of these advocated the use of instruments in order to avoid the variation between plants and geographic location. One recommended keeping the existing marbling lines (used in establishing quality grade) while one advocated a reappraisal of the Prime line. This information can all be accessed at http://www.ams.usda.gov/rules-regulations/2014-standards-carcass-beef.

At this time, AMS is only addressing administrative changes as outlined at the beginning of this document. However, AMS is still evaluating information related to more substantive changes to the U.S. Standards for Grades of Carcass Beef. Should the Agency determine that any of the specific substantive changes be warranted in the future, AMS will propose such changes so that interested stakeholders may comment.

PART 104—APPLICATION OF STANDARDS FOR GRADES OF CARCASS BEEF

1. Amend section 104 by revising paragraph (d) to read as follows:

(d) The Department uses photographs, and other objective aids or devices designated by the USDA, AMS ² in the correct interpretation and application of the standards.

2. Amend footnote 2 to read as follows:

² Information concerning such devices and their use may be obtained from AMS' Livestock, Poultry and Seed Program.

3. Amend section 104 by revising paragraph (o) to read as follows:

(o) These standards are applicable to the grading of beef throughout the full range of maturity within which cattle are marketed. However, in steer, heifer, and cow carcasses, the range of maturity permitted within each of the grades varies considerably. The Prime, Choice, Select, and Standard grades are restricted to beef from young cattle; the Commercial grade is restricted to beef from cattle too mature for Prime, Choice, and Standard, and the Utility, Cutter, and Canner grades may include beef from animals of all ages. By definition, bullock carcasses are restricted to those whose evidences of maturity do not exceed those specified for the juncture of the two youngest maturity groups referenced in the standards for steer, heifer, and cow carcasses. Except for the youngest maturity group and the Choice grade in the second maturity group, within any specified grade, the requirements for marbling increase progressively with evidences of advancing maturity. In the youngest maturity group, the marbling requirements do not increase progressively with evidences of advancing maturity. For each grade, the firmness requirements are different for each maturity group, but, within each maturity group, the firmness requirements do not increase progressively with evidences of advancing maturity. Also, regardless of the extent to which marbling may exceed the minimum of a grade, a carcass must meet the minimum firmness requirements for its maturity to qualify for that grade. To facilitate the application of these principles, the standards recognize five different maturity groups and seven different degrees of marbling. The five maturity groups are identified in Figure 1 as A, B, C, D, and E in order of increasing maturity. The limits of these five maturity groups are specified in the grade descriptions for steer, heifer, and cow carcasses. The A maturity portion of the figure is the only portion applicable to bullock carcasses. The degrees of marbling referenced in the specifications, in order of descending quantity are: Slightly abundant, moderate, modest, small, slight, traces, and practically devoid. However, for carcass evaluation programs and other purposes, three higher degrees are recognized—moderately abundant, abundant, and very abundant. Illustrations of the lower limits of nine of these ten degrees of marbling are available from the USDA.

4. Amend section 104 by revising paragraph (u) to read as follows:

(u) The area of the ribeye is determined where this muscle is exposed by ribbing. This area usually is estimated subjectively; however, it may be measured. An increase in the area of ribeye increases the percent of retail cuts—a change of 1 square inch in area of ribeye changes the yield grade by approximately 30 percent of a yield grade.

5. Amend section 104 by revising paragraph (w) to read as follows:

(w) The standards include a mathematical equation for determining yield grade. This grade is expressed as a whole number. For example, if the computation results in a designation of 3.9, the final grade is 3—it is not rounded to 4. If yield grade is determined through objective means (e.g. instrumentation) the resulting designation may include a fractional part. Regardless of the means of determination, the aggregate is dropped for consideration of grade application.

6. Amend section 104 by revising paragraph (x) to read as follows:

(x) The yield grade standards for each of the first four yield grades list characteristics of two carcasses of two different weights together with descriptions of the usual fat deposition pattern on various areas of the carcass. These descriptions are not specific requirements—they are included only as illustrations of carcasses which are near the borderlines between groups. For example, the characteristics listed for Yield Grade 1 represent carcasses which are near the borderline of Yield Grades 1 and 2. These descriptions facilitate the subjective determination of the yield grade without making detailed measurements and computations. The yield grade for most beef carcasses can be determined accurately on the basis of a visual appraisal. Objective detailed measurements extend the accuracy to fractional parts.

PART 105—SPECIFICATIONS FOR OFFICIAL UNITED STATES STANDARDS FOR GRADES OF CARCASS BEEF (YIELD)

6. Amend section 105 by revising paragraph (b) to read as follows:

(b) The following descriptions provide a guide to the characteristics of carcasses in each yield grade to aid in determining yield grades subjectively.

(1) Yield Grade 1. (i) A carcass in Yield Grade 1 usually has only a thin layer of external fat over the ribs, loins, rumps, and clods and slight deposits of fat in the flanks and cod or udder. There is usually a very thin layer of fat over the outside of the rounds and over the tops of the shoulders and necks. Muscles are usually visible through the fat in many areas of the carcass.

(ii) A 700-pound carcass of this yield grade which is near the borderline of Yield Grades 1 and 2 might have two-tenths inch of fat over the ribeye, 12.5 square inches of ribeye, and 1.5 percent of its weight in kidney, pelvic, and heart fat.

(iii) An 1,100-pound carcass of this yield grade which is near the borderline of Yield Grades 1 and 2 might have four-tenths inch of fat over the ribeye, 19.1 square inches of ribeye, and 2. 0 percent of its weight in kidney, pelvic, and heart fat.

(2) Yield Grade 2. (i) A carcass in Yield Grade 2 usually is nearly completely covered with fat but the lean is plainly visible through the fat over the outside of the rounds, the tops of the shoulders, and the necks. There usually is a slightly thin layer of fat over the loins, ribs, and inside rounds and the fat over the rumps, hips, and clods usually is slightly thick. There are usually small deposits of fat in the flanks and cod or udder.

(ii) A 700-pound carcass of this yield grade which is near the borderline of Yield Grades 2 and 3 might have five-tenths inch of fat over the ribeye, 12.3 square inches of ribeye, and 2.5 percent of its weight in kidney, pelvic, and heart fat.

(iii) An 1,100-pound carcass of this yield grade which is near the borderline of Yield Grades 2 and 3 might have six-tenths inch of fat over the ribeye, 18.1 square inches of ribeye, and 3.0 percent of its weight in kidney, pelvic, and heart fat.

(3) Yield Grade 3. (i) A carcass in Yield Grade 3 usually is completely covered with fat and the lean usually is visible through the fat only on the necks and the lower part of the outside of the rounds. There usually is a slightly thick layer of fat over the loins, ribs, and inside rounds and the fat over the rumps, hips, and clods usually is moderately thick. There usually are slightly large deposits of fat in the flanks and cod or udder.

(ii) A 700-pound carcass of this yield grade which is near the borderline of Yield Grades 3 and 4 might have seven-tenths inch of fat over the ribeye, 11.0 square inches of ribeye, and 3.0 percent of its weight in kidney, pelvic, and heart fat.

(iii) An 1,100-pound carcass of this yield grade which is near the borderline of Yield Grades 3 and 4 might have eight-tenths inch of fat over the ribeye, 16.9 square inches of ribeye, 3.5 percent of its weight in kidney, pelvic, and heart fat.

(4) Yield Grade 4. (i) A carcass in Yield Grade 4 usually is completely covered with fat. The only muscles usually visible are those on the shanks and over the outside of the plates and flanks. There usually is a moderately thick layer of fat over the loins, ribs, and inside rounds and the fat over the rumps, hips, and clods usually is thick. There usually are large deposits of fat in the flanks and cod or udder.

(ii) A 700-pound carcass of this yield grade which is near the borderline of Yield Grades 4 and 5 might have nine-tenths inch of fat over the ribeye, 9.8 square inches of ribeye, and 3.5 percent of its carcass weight in kidney, pelvic, and heart fat.

(iii) A 1,100-pound carcass of this yield grade which is near the borderline of Yield Grades 4 and 5 might have one inch of fat over the ribeye, 15.6 square inches of ribeye, and 4.0 percent of its weight in kidney, pelvic and heart fat.

(5) Yield Grade 5. A carcass in Yield Grade 5 usually has more fat on all of the various parts, a smaller area of ribeye, and more kidney, pelvic, and heart fat than a carcass in Yield Grade 4.

Authority: 7 U.S.C. 1621-1627.

Dated: February 25, 2016.
Elanor Starmer,
Acting Administrator, Agricultural Marketing Service.

[FR Doc. 2016-04493 Filed 2-29-16; 8:45 am]

BILLING CODE 3410-02-P